DEPARTMENT OF TRANSPORTATION

Federal Aviation Administration

14 CFR Part 39

[Docket No. FAA-2020-0452; Product Identifier 2020-NM-062-AD; Amendment 39-19910; AD 2020-09-14]

RIN 2120-AA64

Airworthiness Directives; Airbus SAS Airplanes

AGENCY: Federal Aviation Administration (FAA), DOT.

ACTION: Final rule; request for comments.

SUMMARY: The FAA is superseding Airworthiness Directive (AD) 2020-03-12, which applied to all Airbus SAS Model A350-941 and -1041 airplanes. AD 2020-03-12 required revising the existing airplane flight manual (AFM) to define a liquid-prohibited zone in the flight deck and provide procedures following liquid spillage on the center pedestal. This AD continues to require revising the existing AFM, and also requires installing a removable integrated control panel (ICP) cover in the flight deck and further revising the AFM to include instructions for ICP cover use, as specified in a European Union Aviation Safety Agency (EASA) AD, which is incorporated by reference. This AD was prompted by the FAA's determination that a removable integrated control panel (ICP) cover must be installed to prevent damage from spillage and that the existing AFM must be revised. The FAA is issuing this AD to address the unsafe condition on these products.

DATES: This AD becomes effective June 4, 2020.

The Director of the Federal Register approved the incorporation by reference of a certain publication listed in this AD as of June 4, 2020.

The FAA must receive comments on this AD by July 6, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For material incorporated by reference (IBR) in this AD, contact the EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-0452.

Examining the AD Docket

You may examine the AD docket on the internet at https://www.regulations.gov by searching for and locating Docket No. FAA-2020-0452; or in person at Docket Operations between 9 a.m. and 5 p.m., Monday through Friday, except Federal holidays. The AD docket contains this AD, any comments received, and other information. The street address for Docket Operations is listed above. Comments will be available in the AD docket shortly after receipt.

FOR FURTHER INFORMATION CONTACT: Kathleen Arrigotti, Aerospace Engineer, Large Aircraft Section, International Validation Branch, FAA, 2200 South 216th St., Des Moines, WA 98198; telephone and fax 206-231-3218.

SUPPLEMENTARY INFORMATION:

Discussion

The FAA issued AD 2020-03-12, Amendment 39-19837 (85 FR 7863, February 12, 2020) (“AD 2020-03-12”), which applied to all Airbus SAS Model A350-941 and -1041 airplanes. AD 2020-03-12 required revising the existing AFM to define a liquid-prohibited zone in the flight deck and provide procedures following liquid spillage on the center pedestal. The FAA issued AD 2020-03-12 to address the potential for dual-engine uncommanded engine inflight shutdown (IFSD), possibly resulting in a forced landing with consequent damage to the airplane and injury to occupants.

Actions Since AD 2020-03-12 Was Issued

Since the FAA issued AD 2020-03-12, Airbus developed mod 116010, introducing a removable cover for the ICP, which protects the ICP completely, including engine master levers, thumbwheels, and rotary knob, and provided modification instructions. Airbus also published a new AFM temporary revision (TR) defining a liquid-prohibited zone in the cockpit, procedures for ICP removable cover use, and the procedures to be followed in the case of inadvertent liquid spillage on the center pedestal. The FAA has determined that the removable ICP cover must be installed and the existing AFM must be revised to include these new procedures.

The EASA, which is the Technical Agent for the Member States of the European Union, has issued EASA AD 2020-0090, dated April 20, 2020 (“EASA AD 2020-0090”) (also referred to as the Mandatory Continuing Airworthiness Information, or “the MCAI”), to correct an unsafe condition for certain Airbus SAS Model A350-941 and -1041 airplanes. EASA AD 2020-0090 supersedes EASA Emergency AD 2020-0020-E, dated February 5, 2020, corrected February 6, 2020 (which corresponds to FAA AD 2020-03-12).

This AD was prompted by two reports of abnormal operation of the components of the ENG START panel or Electronic Centralized Aircraft Monitoring (ECAM) Control Panel (ECP) due to liquid spillage in the system, and the subsequent uncommanded engine IFSD of one engine in each case. This AD was also prompted by the FAA's determination that a removable integrated control panel (ICP) cover must be installed to prevent damage from spillage and that the existing AFM must be revised. The FAA is issuing this AD to address the potential for dual-engine IFSD, possibly resulting in a forced landing with consequent damage to the airplane and injury to occupants. See the MCAI for additional background information.

Explanation of Retained Requirements

Although this AD does not explicitly restate the requirements of AD 2020-03-12, this AD retains all of the requirements of AD 2020-03-12. Those requirements are referenced in EASA AD 2020-0090, which, in turn, is referenced in paragraph (g) of this AD.

Related IBR Material Under 1 CFR Part 51

EASA AD 2020-0090 describes procedures for installation of the ICP removable cover in the cockpit and amendment of the AFM to define a liquid-prohibited zone in the cockpit, provide procedures for ICP removable cover use, and provide procedures following liquid spillage on the center pedestal. This material is reasonably available because the interested parties have access to it through their normal course of business or by the means identified in the ADDRESSES section.

FAA's Determination

This product has been approved by the aviation authority of another country, and is approved for operation in the United States. Pursuant to the FAA's bilateral agreement with the State of Design Authority, the FAA has been notified of the unsafe condition described in the MCAI referenced above. The FAA is issuing this AD because the FAA has evaluated all pertinent information and determined the unsafe condition exists and is likely to exist or develop on other products of the same type design.

Requirements of This AD

This AD requires accomplishing the actions specified in EASA AD 2020-0090 described previously, as incorporated by reference, except for any differences identified as exceptions in the regulatory text of this AD.

Explanation of Required Compliance Information

In the FAA's ongoing efforts to improve the efficiency of the AD process, the FAA initially worked with Airbus and EASA to develop a process to use certain EASA ADs as the primary source of information for compliance with requirements for corresponding FAA ADs. The FAA has since coordinated with other manufacturers and civil aviation authorities (CAAs) to use this process. As a result, in EASA AD 2020-0090 is incorporated by reference in this AD. This AD, therefore, requires compliance with EASA AD 2020-0090 in its entirety, through that incorporation, except for any differences identified as exceptions in the regulatory text of this AD. Using common terms that are the same as the heading of a particular section in the EASA AD does not mean that operators need comply only with that section. For example, where the AD requirement refers to “all required actions and compliance times,” compliance with this AD requirement is not limited to the section titled “Required Action(s) and Compliance Time(s)” in the EASA AD. Service information specified in EASA AD 2020-0090 that is required for compliance with EASA AD 2020-0090 is available on the internet at https://www.regulations.gov by searching for and locating Docket No. FAA-2020-0452.

Interim Action

The FAA considers this AD interim action. If final action is later identified, the FAA might consider further rulemaking then.

FAA's Justification and Determination of the Effective Date

An unsafe condition exists that requires the immediate adoption of this AD without providing an opportunity for public comments prior to adoption. The FAA has found that the risk to the flying public justifies waiving notice and comment prior to adoption of this rule because abnormal operation of the components of the ENG START panel or ECP due to liquid spillage in the system could result in dual-engine IFSD, possibly resulting in a forced landing with consequent damage to the airplane and injury to occupants. Therefore, the FAA finds good cause that notice and opportunity for prior public comment are impracticable. In addition, for the reasons stated above, the FAA finds that good cause exists for making this amendment effective in less than 30 days.

Regulatory Flexibility Act (RFA)

The requirements of the RFA do not apply when an agency finds good cause pursuant to 5 U.S.C. 553 to adopt a rule without prior notice and comment. Because the FAA has determined that it has good cause to adopt this rule without notice and comment, RFA analysis is not required.

Comments Invited

This AD is a final rule that involves requirements affecting flight safety, and the FAA did not precede it by notice and opportunity for public comment. The FAA invites you to send any written relevant data, views, or arguments about this AD. Send your comments to an address listed under the ADDRESSES section. Include “Docket No. FAA-2020-0452; Product Identifier 2020-NM-062-AD” at the beginning of your comments. The FAA specifically invites comments on the overall regulatory, economic, environmental, and energy aspects of this AD. The FAA will consider all comments received by the closing date and may amend this AD based on those comments.

The FAA will post all comments received, without change, to https://www.regulations.gov, including any personal information you provide. The FAA will also post a report summarizing each substantive verbal contact received about this AD.

Costs of Compliance

The FAA estimates that this AD affects 13 airplanes of U.S. registry. The FAA estimates the following costs to comply with this AD:

Estimated Costs for Required Actions
Actions | Labor cost | Parts cost | Cost per product | Cost on U.S. operators
Retained actions from AD 2020-03-12 | 1 work-hour × $85 per hour = $85 | $0 | $85 | $1,105
New actions | 2 work-hours × $85 per hour = $170 | * 0 | 170 | 2,210
* The FAA has received no definitive data regarding cost estimates for these parts.

According to the manufacturer, some or all of the costs of this AD may be covered under warranty, thereby reducing the cost impact on affected individuals. The FAA does not control warranty coverage for affected individuals. As a result, the FAA has included all known costs in our cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866; and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2020-03-12, Amendment 39-19837 (85 FR 7863, February 12, 2020), and adding the following new AD:

2020-09-14 Airbus SAS: Amendment 39-19910; Docket No. FAA-2020-0452; Product Identifier 2020-NM-062-AD.

(a) Effective Date

This AD becomes effective June 4, 2020.

(b) Affected ADs

This AD replaces AD 2020-03-12, Amendment 39-19837 (85 FR 7863, February 12, 2020) (“AD 2020-03-12”).

(c) Applicability

This AD applies to Airbus SAS Model A350-941 and -1041 airplanes, certificated in any category, as identified in European Union Aviation Safety Agency (EASA) AD 2020-0090, dated April 20, 2020 (“EASA AD 2020-0090”).

(d) Subject

Air Transport Association (ATA) of America Code 31, Instruments.

(e) Reason

This AD was prompted by two reports of abnormal operation of the components of the ENG START panel or Electronic Centralized Aircraft Monitoring (ECAM) Control Panel (ECP) due to liquid spillage in the system, and the subsequent uncommanded engine inflight shutdown (IFSD) of one engine in each case. This AD was also prompted by the FAA's determination that a removable integrated control panel (ICP) cover must be installed to prevent damage from spillage and the existing AFM must be revised. The FAA is issuing this AD to address the potential for dual-engine IFSD, possibly resulting in a forced landing with consequent damage to the airplane and injury to occupants.

(f) Compliance

Comply with this AD within the compliance times specified, unless already done.

(g) Requirements

Except as specified in paragraph (h) of this AD: Comply with all required actions and compliance times specified in, and in accordance with, EASA AD 2020-0090.

(h) Exceptions to EASA AD 2020-0090

(1) Where EASA AD 2020-0090 refers to “the effective date of EASA AD 2020-0020-E,” this AD requires using February 14, 2020 (the effective date of AD 2020-03-12).

(2) Where EASA AD 2020-0090 refers to its effective date, this AD requires using the effective date of this AD.

(3) “Note 1” of EASA AD 2020-0090 does not apply to this AD. However, after the actions required by paragraph (g) of this AD have been accomplished on an airplane, that airplane may be operated with a damaged or missing ICP removable cover, provided provisions that address the ICP removable cover are included in the operator's approved minimum equipment list (MEL).

(4) The “Remarks” section of EASA AD 2020-0090 does not apply to this AD.

(i) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or local Flight Standards District Office, as appropriate. If sending information directly to the Large Aircraft Section, International Validation Branch, send it to the attention of the person identified in paragraph (j) of this AD. Information may be emailed to: 9-ANM-116-AMOC-REQUESTS@faa.gov.

(i) Before using any approved AMOC, notify your appropriate principal inspector, or lacking a principal inspector, the manager of the local flight standards district office/certificate holding district office.

(ii) AMOCs approved previously for AD 2020-03-12 are approved as AMOCs for the corresponding provisions of EASA AD 2020-0090 that are required by paragraph (g) of this AD.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): For any service information referenced in EASA AD 2020-0090 that contains RC procedures and tests: Except as required by paragraph (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

For more information about this AD, contact Kathleen Arrigotti, Aerospace Engineer, Large Aircraft Section, International Validation Branch, FAA, 2200 South 216th St., Des Moines, WA 98198; telephone and fax 206-231-3218.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0090, dated April 20, 2020.

(ii) [Reserved]

(3) For information about EASA AD 2020-0090, contact the EASA, Konrad-Adenauer-Ufer 3, 50668 Cologne, Germany; telephone +49 221 89990 6017; email ADs@easa.europa.eu; Internet www.easa.europa.eu. You may find this EASA AD on the EASA website at https://ad.easa.europa.eu.

(4) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0452.

(5) You may view this material that is incorporated by reference at the National Archives and Records Administration (NARA). For information on the availability of this material at NARA, email fedreg.legal@nara.gov, or go to: https://www.archives.gov/federal-register/cfr/ibr-locations.html.

Issued on May 6, 2020.
Gaetano A. Sciortino,
Deputy Director for Strategic Initiatives, Compliance & Airworthiness Division, Aircraft Certification Service.

[FR Doc. 2020-10629 Filed 5-19-20; 8:45 am]

BILLING CODE 4910-13-P